ENVIRONMENTAL PROTECTION AGENCY

[FRL-7521-6]

Public Water Supply Supervision Program Revision for the Commonwealth of Puerto Rico

AGENCY: Environmental Protection Agency.

ACTION: Notice of tentative approval and solicitation of request for a public hearing for Public Water Supply Supervision Program Revision for the Commonwealth of Puerto Rico

SUMMARY: Notice is hereby given that the Environmental Protection Agency (EPA) has determined to approve an application by the Commonwealth of Puerto Rico to revise its Public Water Supply Supervision Primacy Program to incorporate regulations no less stringent than the EPA's National Primary Drinking Water Regulations (NPDWR) for the following: Lead and Copper Rule Technical Correction; Final Rule, promulgated by EPA on June 30, 1994 (59 FR 33860), Synthetic Organic Chemicals and Inorganic Chemicals; Final Rule, promulgated by EPA on July 1, 1994 (59 FR 34320), Analytical Methods Technical Corrections; Final Rule, promulgated by EPA on December 5, 1994 (59 FR 62456), Analytical Methods Technical Corrections; Final Rule, promulgated by EPA on June 29, 1995 (60 FR 34083), Analytical Methods for Radionuclides Technical Corrections, promulgated by EPA on March 5, 1997 (62 FR 10168), Revisions to State Primacy Requirements to Implement Safe Drinking Water Act Amendments; Final Rule (Primacy Revisions), promulgated by EPA on April 28, 1998 (63 FR 23362), Revision of Existing Variance and Exemption Regulations To Comply With Requirements of the Safe Drinking Water Act; Final Rule, promulgated by EPA on August 14, 1998 (63 FR 43834), Consumer Confidence Reports; Final Rule, promulgated by EPA on August 19, 1998 (63 FR 44512), along with 3 separate Technical Corrections to the Consumer Confidence Reports, promulgated as follows: December 16, 1998 (63 FR 69475 and 63 FR 69516), June 29, 1999 (64 FR 34732) and September 14, 1999 (64 FR 49671); Final Rule, Suspension of Unregulated Contaminant Monitoring Requirements for Small Public Water Systems, promulgated by EPA January 8, 1999 (64 FR 1494), the Disinfectants and Disinfection Byproducts; Final Rule, and Interim Enhanced Surface Water Treatment; Final Rule, both promulgated December 16, 1998 (63 FR 69390 and 63 FR 69478, respectively), and the Analytical Methods for Chemical and Microbiological Contaminants and Revisions to Laboratory Certification Requirements; Final Rule, promulgated by EPA December 1, 1999 (64 FR 67450). Effective March 6, 2000, the Puerto Rico Department of Health (PRDOH) promulgated the General Regulation of Environmental Health (Regulation #6090) giving the Secretary of PRDOH broad discretion to enact and/or adopt regulations deemed necessary to protect the Commonwealth's drinking water. Regulation #6090 also allowed for incorporation by reference of federally promulgated regulations. The revised regulation has been submitted by the Commonwealth in an application to revise its approved Public Water Supply Supervision Primacy Program (approved primacy program). The application demonstrates that Puerto Rico has adopted drinking water regulations which satisfy the NPDWRs for the above. The USEPA has determined that Puerto Rico's regulations are no less stringent than the corresponding Federal Regulations and that Puerto Rico continues to meet all requirements for primary enforcement responsibility as specified in 40 CFR 142.10.

DATES: This determination to approve the Commonwealth's primacy program revision application is made pursuant to 40 CFR 142.12(d)(3). It shall become final and effective August 1, 2003 unless (1) a timely and appropriate request for a public hearing is received or (2) the Regional Administrator elects to hold a public hearing on her own motion. Any interested person, other than Federal Agencies, may request a public hearing. A request for a public hearing must be submitted to the Regional Administrator at the address shown below by August 1, 2003. If a substantial request for a public hearing is made within the requested thirty day time frame, a public hearing will be held and a notice will be given in the Federal Register and a newspaper of general circulation. Frivolous or insubstantial requests for a hearing may be denied by the Regional Administrator. If no timely and appropriate request for a hearing is received and the Regional Administrator does not elect to hold a hearing on her own motion, this determination shall become final and effective August 1, 2003.

Any request for a public hearing shall include the following information: (1) Name, address and telephone number of the individual organization or other entity requesting a hearing; (2) a brief statement of the requesting person's interest in the Regional Administrator's determination and a brief statement on information that the requesting person intends to submit at such hearing; (3) the signature of the individual making the request or, if the request is made on behalf of an organization or other entity, the signature of a responsible official of the organization or other entity.

ADDRESSES: Requests for Public Hearing shall be addressed to:

Regional Administrator, U.S. Environmental Protection Agency, Region 2, 290 Broadway, New York, New York 10007-1866.

All documents relating to this determination are available for inspection between the hours of 9 a.m. and 4:30 p.m. Monday through Friday, at the following offices: Puerto Rico Department of Health, Public Water Supply Supervision Program, 9th Floor, Suite 903, Nacional Plaza Building, 431 Ponce De Leon Avenue, Hato Rey, Puerto Rico, 00917.

U.S. Environmental Protection Agency, Region 2, 24th Floor, Drinking Water Section, 290 Broadway, New York, New York 10007-1866.

FOR FURTHER INFORMATION CONTACT: Michael J. Lowy, Drinking Water Section, U.S. Environmental Protection Agency, Region 2, (212) 637-3830.

Authority: (Section 1413 of the Safe Drinking Water Act, as amended, 40 U.S.C. 300g-2, and 40 CFR 142.10, 142.12(d) and 142.13)

William J. Muszynski,
Acting Regional Administrator, Region 2.

[FR Doc. 03-16735 Filed 7-1-03; 8:45 am]

BILLING CODE 6560-50-P